FEDERAL ELECTION COMMISSION

Sunshine Act Meeting Notice

DATE & TIME: Tuesday, March 19, 2002 at 10:00 a.m.

PLACE: 999 E Street, N.W., Washington, DC.

STATUS: This meeting will be closed to the public.

ITEMS TO BE DISCUSSED: Compliance matters pursuant to 2 U.S.C. 437g.

Audits conducted pursuant to 2 U.S.C. 437g, 438(b), and Title 26, U.S.C.

Matters concerning participation in civil actions or proceedings or arbitration.

Internal personnel rules and procedures or matters affecting a particular employee.

DATE & TIME: Wednesday, March 20, 2002 at 10:00 a.m.

PLACE: 999 E Street, N.W., Washington, DC. (Ninth Floor).

STATUS: This hearing will be open to the public.

MATTER BEFORE THE COMMISSION: Use of the Internet for campaign-related activities.

DATE & TIME: Thursday, March 21, 2002 at 10:00 a.m.

PLACE: 999 E Street, N.W., Washington, DC. (Ninth Floor).

STATUS: This meeting will be open to the public.

ITEMS TO BE DISCUSSED: Correction and Approval of Minutes.

New Rulemaking on Administrative Fines (11 CFR part 111, subpart B).

Statement of Policy Regarding Party Committee Coordinated Expenditures.

Administrative Matters.

PERSON TO CONTACT FOR INFORMATION: Mr. Ron Harris, Press Officer, Telephone: (202) 694-1220.

Mary W. Dove,
Secretary of the Commission.

[FR Doc. 02-6185 Filed 3-11-02; 3:04 pm]

BILLING CODE 6715-01-M